NUCLEAR REGULATORY COMMISSION

[NRC-2014-0198]

Proposed Revisions to Radioactive Waste Management

AGENCY: Nuclear Regulatory Commission.

ACTION: Standard review plan-draft section revision; request for comment.

SUMMARY: The U.S. Nuclear Regulatory Commission (NRC) is soliciting public comment on the following sections in Chapter 11, “Radioactive Waste Management,” of NUREG-0800, “Standard Review Plan (SRP) for the Review of Safety Analysis Reports for Nuclear Power Plants: LWR Edition,” Section 11.1, “Coolant Source Terms”; Section 11.2, “Liquid Waste Management System”; Section 11.3, “Gaseous Waste Management System”; Section 11.4, “Solid Waste Management System”; Section 11.5, “Process and Effluent Radiological Monitoring Instrumentation and Sampling Systems”; Branch Technical Position 11-3, “Design Guidance for Solid Radioactive Waste Management Systems Installed in Light-Water-Cooled Nuclear Power Reactor Plants”; Branch Technical Position 11-5, “Postulated Radioactive Releases Due to a Waste Gas System Leak or Failure”; and Branch Technical Position 11-6, “Postulated Radioactive Releases due to Liquid Containing Tank Failures.”

DATES: Submit comments by November 17, 2014. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2014-0198. Address questions about NRC dockets to Carol Gallagher; telephone: 301-287-3422; email: Carol.Gallagher@nrc.gov. For technical questions, contact the individual listed in the FOR FURTHER INFORMATION CONTACT section of this document.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Obtaining Information and Submitting Comments” in the SUPPLEMENTARY INFORMATION section of this document.

FOR FURTHER INFORMATION CONTACT: Jonathan DeGange, Office of New Reactors, U.S. Nuclear Regulatory Commission, Washington, DC 20555-0001, telephone: 301-415-6992; email: Jonathan.DeGange@nrc.gov.

SUPPLEMENTARY INFORMATION:

I. Obtaining Information and Submitting Comments

A. Obtaining Information

Please refer to Docket ID NRC-2014-0198 when contacting the NRC about the availability of information regarding this document. You may obtain publicly available information related to this document by any of the following methods:

• Federal Rulemaking Web site: Go to http://www.regulations.gov and search for Docket ID NRC-2014-0198.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about accessing materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2014-0198 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Availability of Documents

The documents identified in the following table are available to interested persons through one or more of the following methods, as indicated.

Section | Proposed revision ADAMS accession No. | Current revision ADAMS accession No. | Redline ADAMS accession No.
11.1 | Proposed Revision 4 (ML13058A173) | Current Revision 3 (ML070790010) | ML13058A231.
11.2 | Proposed Revision 5 (ML13044A644) | Current Revision 4 (ML100740449) | ML13051A463.
11.3 | Proposed Revision 4 (ML13065A119) | Current Revision 3 (ML070710366) | ML13070A380.
11.4 | Proposed Revision 4 (ML13072A545) | Current Revision 3 (ML070710397) | ML13072A574.
11.5 | Proposed Revision 6 (ML13071A494) | Current Revision 5 (ML100740509) | ML13072A136.
Branch Technical Position 11-3 | Proposed Revision 4 (ML13070A352) | Current Revision 3 (ML070730202) | ML13071A160.
Branch Technical Position 11-5 | Proposed Revision 4 (ML13070A322) | Current Revision 3 (ML070730056) | ML13070A465.
Branch Technical Position 11-6 | Proposed Revision 4 (ML13051A458) | Current Revision 3 (ML070720635) | ML13051A586.

The NRC may post materials related to this document, including public comments, on the Federal rulemaking Web site at http://www.regulations.gov under Docket ID NRC-2014-0198. The Federal rulemaking Web site allows you to receive alerts when changes or additions occur in a docket folder. To subscribe: (1) Navigate to the docket folder (NRC-2014-0198); (2) click the “Sign up for Email Alerts” link; and (3) enter your email address and select how frequently you would like to receive emails (daily, weekly, or monthly).

III. Further Information

The Office of New Reactors and Office of Nuclear Reactor Regulation are revising these sections from their current revisions. Details of specific changes in the proposed revisions are included at the end of each of the proposed sections.

The changes to this SRP chapter reflect current staff review methods and practices based on lessons learned from NRC reviews of design certification and combined license applications completed since the last revision of this chapter. Among other changes, the revisions include (1) revision of the title of SRP Section 11.1 to “Coolant Source Terms,” (2) implementation of Interim Staff Guidance (ISG), COL/DC-ISG-013 (ADAMS Accession No. ML12191A304), and (3) the revision also harmonizes SRP Section 11.2 with BTP 11.6 regarding the guidance of COL/DC-ISG-013 for calculating doses to members of the public and identifying acceptable criteria in assessing the radiological consequences of accidental releases due to tank failures.

IV. Backfitting and Finality Provisions

Issuance of these draft SRP sections, if finalized, would not constitute backfitting as defined in § 50.109 of Title 10 of the Code of Federal Regulations (10 CFR), (the Backfit Rule) or otherwise be inconsistent with the issue finality provisions in 10 CFR part 52. The NRC's position is based upon the following considerations.

1. The draft SRP positions, if finalized, would not constitute backfitting, inasmuch as the SRP is internal guidance to NRC staff.

The SRP provides internal guidance to the NRC staff on how to review an application for NRC regulatory approval in the form of licensing. Changes in internal staff guidance are not matters for which either nuclear power plant applicants or licensees are protected under either the Backfit Rule or the issue finality provisions of 10 CFR part 52.

2. The NRC staff has no intention to impose the SRP positions on existing licensees either now or in the future.

The NRC staff does not intend to impose or apply the positions described in the draft SRP to existing licenses and regulatory approvals. Hence, the issuance of a final SRP—even if considered guidance within the purview of the issue finality provisions in 10 CFR part 52—would not need to be evaluated as if it were a backfit or as being inconsistent with issue finality provisions. If, in the future, the NRC staff seeks to impose a position in the SRP on holders of already issued licenses in a manner that does not provide issue finality as described in the applicable issue finality provision, then the staff must make the showing as set forth in the Backfit Rule or address the criteria for avoiding issue finality as described in the applicable issue finality provision.

3. Backfitting and issue finality do not—with limited exceptions not applicable here—protect current or future applicants.

Applicants and potential applicants are not, with certain exceptions, protected by either the Backfit Rule or any issue finality provisions under 10 CFR part 52. Neither the Backfit Rule nor the issue finality provisions under 10 CFR part 52—with certain exclusions—were intended to apply to every NRC action that substantially changes the expectations of current and future applicants. The exceptions to the general principle are applicable whenever an applicant references a 10 CFR part 52 license (e.g., an early site permit) and/or NRC regulatory approval (e.g., a design certification rule) with specified issue finality provisions. The NRC staff does not, at this time, intend to impose the positions represented in the draft SRP in a manner that is inconsistent with any issue finality provisions. If, in the future, the staff seeks to impose a position in the draft SRP in a manner that does not provide issue finality as described in the applicable issue finality provision, then the staff must address the criteria for avoiding issue finality as described in the applicable issue finality provision.

The NRC staff is issuing this notice to solicit public comments on the proposed SRP Sections and BTPs in Chapter 11. After the NRC staff considers any public comments, it will make a determination regarding the proposed SRP Sections and BTPs in Chapter 11. The SRP is guidance for the NRC staff. The SRP is not a substitute for the NRC regulations, and compliance with the SRP is not required.

Dated at Rockville, Maryland, this 4th day of September, 2014.
For the Nuclear Regulatory Commission.
Joseph Colaccino,
Chief, New Reactor Rulemaking and Guidance Branch, Division of Advanced Reactors and Rulemaking, Office of New Reactors.

[FR Doc. 2014-22199 Filed 9-16-14; 8:45 am]

BILLING CODE 7590-01-P